DEPARTMENT OF ENERGY

Federal Energy Regulatory Commission

[Project No. 2342-011 Washington]

PacifiCorp; Notice of Site Visit and Technical Conference

April 17, 2001.

Take notice that on Wednesday, May 16, 2001, Commission staff will conduct a site visit to the Condit Hydroelectric Project No. 2342. All interested individuals, organizations, and agencies are invited to attend. All participants should meet at 10:00 a.m. at Northwestern Lake Park located on the upper end of Northwestern Lake near the highway bridge on Northwestern Lake Road. Anyone who wishes to attend the site visit should contact Ms. Gail Miller of PacifiCorp at (503) 813-5528 by 4:00 p.m. on Friday, May 11, 2001.

On Thursday, May 17, 2001, Commission staff will hold a technical conference with PacifiCorp and other interested parties to discuss PacifiCorp's Application for Amendment of License and for Approval of an Offer of Settlement filed with the Commission on October 21, 1999, for the Condit Hydroelectric Project. The conference will take place from 9:00 a.m. to 3:30 p.m. at the Holiday Inn—Portland Airport, 8439 N.E. Columbia Blvd., Portland, Oregon.

The purposes of the conference will be to learn more about the Settlement Agreement and discuss related procedural steps. All interested individuals, organizations, and agencies are invited to attend the conference.

For further information, please contact Nicholas Jayjack at (202) 219-2825.

David P. Boergers,
Secretary.

[FR Doc. 01-9899 Filed 4-20-01; 8:45 am]

BILLING CODE 6717-01-M